FEDERAL ELECTION COMMISSION

Sunshine Act, Meetings

PREVIOUSLY ANNOUNCED DATE AND TIME: Tuesday, January 10, 2006. Meeting closed to the public. This meeting was cancelled.

PREVIOUSLY ANNOUNCED DATE AND TIME: Thursday, January 12, 2006, 10 a.m. Meeting open to the public. This meeting was cancelled.

DATE AND TIME: Tuesday, January 17, 2006, at 2 p.m.

PLACE: 999 E Street, NW., Washington, DC.

STATUS: This meeting will be closed to the public.

ITEMS TO BE DISCUSSED: Compliance matters pursuant to 2 U.S.C. 437g; Audits conducted pursuant to 2 U.S.C. 437g, 438(b), and Title 26, U.S.C.; Matters concerning participation in civil actions or proceedings or arbitration; Internal personnel rules and procedures or matters affecting a particular employee.

DATE AND TIME: Thursday, January 19, 2006, at 10 a.m.

PLACE: 999 E Street, NW., Washington, DC (Ninth Floor).

STATUS: This meeting will be open to the public.

ITEMS TO BE DISCUSSED: Correction and Approval of Minutes; Election of Vice Chairman; Final Audit Report on CWA COPE Political Contributions Committee; Advisory Opinion 2005-20: Pillsbury Winthrop Shaw Pittman by Ms. Kathryn E. Donovan; Final Rules and Explanation and Justification for the Definition of “Agent”; Routine Administrative Matters.

FOR FURTHER INFORMATION CONTACT: Mr. Robert Biersack, Press Officer. Telephone: 202-694-1220.

Mary W. Dove,
Secretary of the Commission.

[FR Doc. 06-347 Filed 1-10-06; 2:37 pm]

BILLING CODE 6715-01-M